NATIONAL FOUNDATION FOR THE ARTS AND THE HUMANITIES

Submission for OMB Review, Comment Request, Proposed Collection: Public Needs for Library and Museum Services (PNLMS) Survey

AGENCY: Institute of Museum and Library Services.

ACTION: Submission for OMB Review, Comment Request.

SUMMARY: The Institute of Museum and Library Services (IMLS), as part of its continuing effort to reduce paperwork and respondent burden, conducts a pre-clearance consultation program to provide the general public and federal agencies with an opportunity to comment on proposed and/or continuing collections of information in accordance with the Paperwork Reduction Act (44 U.S.C. Chapter 35). This pre-clearance consultation program helps to ensure that requested data can be provided in the desired format, reporting burden (time and financial resources) is minimized, collection instruments are clearly understood, and the impact of collection requirements on respondents can be properly assessed.

A copy of the proposed information collection request can be obtained by contacting the individual listed below in the ADDRESSES section of this notice.

DATES: Written comments must be submitted to the office listed in the addressee section below on or before March 20, 2013.

IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Deanne Swan, Senior Statistician, Office of Planning, Research, and Evaluation, Institute of Museum and Library Services, 1800 M St. NW., 9th Floor, Washington, DC 20036. Dr. Swan can be reached by Telephone: 202-653-4769, Fax: 202-653-4601, or by email at dswan@imls.gov, or by teletype (TTY/TDD) for persons with hearing difficulty at 202-653-4614.

SUPPLEMENTARY INFORMATION: The Institute of Museum and Library Services is the primary source of federal support for the Nation's 123,000 libraries and 17,500 museums. The Institute's mission is to create strong libraries and museums that connect people to information and ideas. The Institute works at the national level and in coordination with state and local organizations to sustain heritage, culture, and knowledge; enhance learning and innovation; and support professional development. IMLS is responsible for identifying national needs for, and trends of, museum and library services funded by IMLS; reporting on the impact and effectiveness of programs conducted with funds made available by IMLS in addressing such needs; and identifying, and disseminating information on, the best practices of such programs. (20 U.S.C. Chapter 72, 20 U.S.C. 9108).

Abstract: Consistent with this (20 U.S.C. Chapter 72, 20 U.S.C. 9108), the intention of the PNLMS (formerly the PDMLS, Public Demand for Museum and Library Services Survey) is to monitor expectations of and satisfaction with library and museum services. A wide range of topics will be covered, with a small number of questions about each topic included on the questionnaire. The PNLMS will include a core set of demographic questions (e.g., age, gender, race) and a core set of questions based on critical information needs within IMLS (e.g., satisfaction with the library and museum services; frequency of utilization of various services; physical and virtual access to services).

The purpose of this collection is to determine attitudes, to assess awareness of issues related to library and museum services, and to track trends. The survey will be used to gather information on a wide range of library and museum services. The design of the PNLMS will be a random digital dial (“RDD”) telephone survey of the adult, non-institutionalized U.S. population which will yield a minimum of 3,525 cases.

Current Actions: This notice proposes clearance of the Public Needs for Library and Museum Services (PNLMS) Survey. The 60-day notice for the PDMLS (now PNLMS) Survey was published in the Federal Register on November 29, 2010, (FR vol. 75, No. 228, pgs. 73132-73133). The agency has taken into consideration the comment that was received under this notice.

Agency: Institute of Museum and Library Services.

Title: Public Needs for Library and Museum Services Survey.

OMB Number: To Be Determined.

Agency Number: 3137.

Affected Public: Individuals or households.

Number of Respondents: 3,525.

Frequency: Anticipated for Every Three Years.

Estimated Average Burden per Response: 18 minutes.

Estimated Total Annual Burden: 1,058 hours.

Total Annualized capital/startup costs: n/a.

Total Annualized cost to respondents: $21,130.

Total Annual costs to Federal Government: $601,306.

Contact: Comments should be sent to Office of Information and Regulatory Affairs, Attn.: OMB Desk Officer for Education, Office of Management and Budget, Room 10235, Washington, DC 20503, (202) 395-7316.

Dated: February 14, 2013.
Kim Miller,
Management Analyst.

[FR Doc. 2013-03920 Filed 2-20-13; 8:45 am]

BILLING CODE 7036-01-P